DEPARTMENT OF LABOR

Mine Safety and Health Administration

Notice of Affirmative Decisions on Petitions for Modification Granted in Whole or in Part

AGENCY: Mine Safety and Health Administration (MSHA), Labor.

SUMMARY: The Mine Safety and Health Administration (MSHA) enforces mine operator compliance with mandatory safety and health standards that protect miners and improve safety and health conditions in U.S. Mines. This Federal Register Notice (FR Notice) notifies the public that it has investigated and issued a final decision on certain mine operator petitions to modify a safety standard.

ADDRESSES: Copies of the final decisions are posted on MSHA's Web site at http://www.msha.gov/indexes/petition.htm. The public may inspect the petitions and final decisions during normal business hours in MSHA's Office of Standards, Regulations, and Variances, 1100 Wilson Boulevard, Room 2349, Arlington, Virginia 22209. All visitors must first stop at the receptionist desk on the 21st Floor to sign-in.

FOR FURTHER INFORMATION CONTACT: Ria Moore Benedict, Deputy Director, Office of Standards, Regulations, and Variances at 202-693-9443 (Voice), benedict.ria@dol.gov (e-mail), or 202-693-9441 (Telefax), or Barbara Barron at 202-693-9447 (Voice), barron.barbara@dol.gov (e-mail), or 202-693-9441 (Telefax). [These are not toll-free numbers].

SUPPLEMENTARY INFORMATION:

I. Introduction

Under section 101 of the Federal Mine Safety and Health Act of 1977, a mine operator may petition and the Secretary of Labor (Secretary) may modify the application of a mandatory safety standard to that mine if the Secretary determines that: (1) An alternative method exists that will guarantee no less protection for the miners affected than that provided by the standard; or (2) that the application of the standard will result in a diminution of safety to the affected miners.

MSHA bases the final decision on the petitioner's statements, any comments and information submitted by interested persons, and a field investigation of the conditions at the mine. In some instances, MSHA may approve a petition for modification on the condition that the mine operator complies with other requirements noted in the decision.

II. Granted Petitions for Modification

On the basis of the findings of MSHA's investigation, and as designee of the Secretary, MSHA has granted or partially granted the following petitions for modification:

• Docket Number: M-2005-005-C.

FR Notice: 70 FR 7760 (February 15, 2005).

Petitioner: R S & W Coal Company, Inc., 207 Creek Road, Klingerstown, Pennsylvania 17941.

Mine: R S & W Drift, MSHA I.D. No. 36-01818.

Regulation Affected: 30 CFR 75.332(b)(1) and (b)(2) (Working sections and working places).

• Docket Number: M-2005-030-C.

FR Notice: 70 FR 28321 (May 17, 2005).

Petitioner: Wabash Mine Holding Company, Three Gateway Center, Suite 1340, 401 Liberty Avenue, Pittsburgh, Pennsylvania 15219.

Mine: Wabash Mine, MSHA I.D. No. 11-00877.

Regulation Affected: 30 CFR 75.364(b)(1) and (b)(4) (Weekly examination).

• Docket Number: M-2005-045-C.

FR Notice: 70 FR 39800 (July 11, 2005).

Petitioner: Energy West Mining Company, P.O. Box 310, Huntington, Utah 84528.

Mine: Deer Creek Mine, MSHA I.D. No. 42-00121.

Regulation Affected: 30 CFR 75.350 (Belt air course ventilation).

• Docket Number: M-2005-052-C.

FR Notice: 70 FR 42103 (July 21, 2005).

Petitioner: Bear Gap Coal Company, P.O. Box 64, Spring Glen, Pennsylvania 17978.

Mine: No. 6. Slope, MSHA I.D. No. 36-09296.

Regulation Affected: 30 CFR 75.1400 (Hoisting equipment; general).

• Docket Number: M-2005-053-C.

FR Notice: 70 FR 42103 (July 21, 2005).

Petitioner: Bear Gap Coal Company, P.O. Box 64, Spring Glen, Pennsylvania 17978.

Mine: No. 6 Slope, MSHA I.D. No. 36-09296.

Regulation Affected: 30 CFR 75.335 (Construction of seals).

• Docket Number: M-2005-062-C.

FR Notice: 70 FR 55174 (September 20, 2005).

Petitioner: Kingwood Mining Company, LLC, Route 1, Box 294C, Newburg, West Virginia 26410.

Mine: Whitetail Kittanning Mine, MSHA I.D. No. 46-08751.

Regulation Affected: 30 CFR 75.364(b)(1) (Weekly examination).

• Docket Number: M-2005-065-C.

FR Notice: 70 FR 59374 (October 12, 2005).

Petitioner: Black Stallion Coal Company, 500 Lee Street, P.O. Box 1189, Charleston, West Virginia 25324.

Mine: Black Stallion Mine, MSHA I.D. No. 46-09086.

Regulation Affected: 30 CFR 75.900 (Low- and medium-voltage circuits serving three-phase alternating current equipment; circuit breakers).

• Docket Number: M-2005-066-C.

FR Notice: 70 FR 59374 (October 12, 2005).

Petitioner: San Juan Coal Company, P.O. Box 561, Waterflow, New Mexico 87421.

Mine: San Juan South Mine, MSHA I.D. No. 29-02170.

Regulation Affected: 30 CFR 75.503 (Permissible electric face equipment; maintenance) and 30 CFR 18.35 (Portable trailing cables and cords).

• Docket Number: M-2005-068-C.

FR Notice: 70 FR 61473 (October 24, 2005).

Petitioner: Six M Coal Company, 482 High Road, Ashland, Pennsylvania 17921.

Mine: No. 1 Slope Mine, MSHA I.D. No. 36-09138.

Regulation Affected: 30 CFR 75.1100-2(a)(2) (Quantity and location of firefighting equipment).

• Docket Number: M-2005-071-C.

FR Notice: 70 FR 66469 (November 2, 2005).

Petitioner: Kennecott Energy Company, 748 T-7 Road (82718), P.O. Box 1449, Gillette, Wyoming 82717-1449.

Mine: Cordero-Rojo Mine, MSHA I.D. No. 48-00992; Jacobs Ranch Mine, MSHA I.D. No. 48-00997; Antelope Mine, MSHA I.D. No. 48-01337; Spring Creek Mine, MSHA I.D. No. 24-01457; and Colowyo Coal Mine, MSHA I.D. No. 05-02962.

Regulation Affected: 30 CFR 75.803 (Fail safe ground check circuits on high-voltage resistance grounded systems).

• Docket Number: M-2005-075-C.

FR Notice: 70 FR 71862 (November 30, 2005).

Petitioner: AMFIRE Mining Company, LLC, One Energy Place, Latrobe, Pennsylvania 15650.

Mine: Nolo Mine, MSHA I.D. No. 36-08850.

Regulation Affected: 30 CFR 75.1710-1(a) (Canopies or cabs; self-propelled diesel-powered and electric face equipment; installation requirements).

• Docket Number: M-2005-077-C.

FR Notice: 70 FR 75221 (December 19, 2005).

Petitioner: Rockdale Energy, EHS, 3990 John D. Harper Road, Rockdale, Texas 76567, on behalf of Alcoa, Inc.

Mine: Sandow Mine, MSHA I.D. No. 41-00356 and Three Oaks Mine, MSHA I.D. No. 41-04085.

Regulation Affected: 30 CFR 77.803 (Fail safe ground check circuits on high-voltage resistance grounded systems).

• Docket Number: M-2005-078-C.

FR Notice: 70 FR 75221 (December 19, 2005).

Petitioner: Advent Mining, LLC, 3603 State Route 370, Sebree, Kentucky 42455.

Mine: Onton #9 Mine, MSHA I.D No. 15-18547.

Regulation Affected: 30 CFR 75.1101-1(b) (Deluge-type water spray systems).

Dated: May 18, 2007.
Patricia W. Silvey,
Director, Office of Standards, Regulations, and Variances.

[FR Doc. E7-10077 Filed 5-23-07; 8:45 am]

BILLING CODE 4510-43-P